DEPARTMENT OF VETERANS AFFAIRS

Creating Options for Veterans Expedited Recovery (COVER) Commission, Notice of Meeting

In accordance with the Federal Advisory Committee Act, the Creating Options for Veterans Expedited Recovery (COVER) Commission gives notice of meetings to be held in the Washington, DC area on December 12 and 13, 2019, at the following times and locations:

Dates: | Times: | Location
December 12, 2019 | 9:00 a.m.-5:00 p.m., Eastern Standard Time | Capitol Hill Visitors Center Room SVC 212-10, First Street NE, Washington, DC 20515.
December 13, 2019 | 9:00 a.m.-1:30 p.m. EST, Eastern Standard Time | VHA National Conference Center, 2011 Crystal Drive, Crystal City, Virginia 22202.

The purpose of the COVER Commission is to examine the evidence-based therapy treatment model used by the Department of Veterans Affairs (VA) for treating mental health conditions of Veterans and the potential benefits of incorporating complementary and integrative health approaches, and other non-conventional therapies identified by the Commission, as standard practice throughout the Department.

Members of the public are invited to attend open sessions on both dates and locations in-person. Attendees must RSVP in writing via an email to COVERCommission@va.gov no later than December 10, 2019. A limited amount of seating will be available, and members of the public will be seated on a first come-first served basis. Use of videotaping or recording on December 12th is prohibited in accordance with Capital Visitor Center regulations and is discouraged for the December 13th session.

Members of the public are invited to provide in-person comments to the commission from 10:00 a.m.-11:00 a.m. on December 12, 2019. Individuals interested in providing comments must request time on the agenda via email to COVERCommission@va.gov, no later than December 6, 2019. The written request must include the presenter's name, the organizations, associations, or persons they represent and the topic of the comments. In-person comments will be limited to no more than 5 minutes per organization and the number of presenters will be limited due to time constraints; those approved to address the commission will be notified in writing by 12:00 p.m. EST on December 9, 2019. The COVER Commission will also accept written comments which may be sent to the email address noted.

Any member of the public seeking additional information including copies of materials referenced during open sessions should email the Designated Federal Officer for the Commission, Mr. John Goodrich, at COVERCommission@va.gov. In communications with the Commission, the writers must identify themselves and state the organizations, associations, or persons they represent.

Dated: November 20, 2019.
LaTonya L. Small,
Federal Advisory Committee Management Officer.

[FR Doc. 2019-25583 Filed 11-25-19; 8:45 am]

BILLING CODE 8320-01-P